DEPARTMENT OF HOMELAND SECURITY

Coast Guard

33 CFR Part 117

[Docket No. USCG-2009-0026]

Drawbridge Operation Regulation; Park Street Drawbridge, Oakland Inner Harbor, Alameda, CA

AGENCY: Coast Guard, DHS.

ACTION: Notice of temporary deviation from regulations.

SUMMARY: The Commander, Eleventh Coast Guard District, has issued a temporary deviation from the regulation governing the operation of the Park Street drawbridge across the Oakland Inner Harbor, mile 5.2, at Alameda, CA. The deviation is necessary to allow seismic retrofitting of the bridge. This deviation allows single leaf operation of the double leaf, bascule style drawbridge, during the deviation period.

DATES: This deviation is effective from 12:01 a.m. on February 1, 2009 until 11:59 p.m. on May 31, 2009.

ADDRESSES: Documents indicated in this preamble as being available in the docket are part of the docket USCG-2009-0026 and are available online at http://www.regulations.gov. They are also available for inspection or copying at two locations: the Docket Management Facility (M-30), U.S. Department of Transportation, West Building Ground Floor, Room W12-140, 1200 New Jersey Avenue, SE., Washington, DC 20590, between 9 a.m. and 5 p.m., Monday through Friday, except Federal holidays, and the Commander (dpw), Eleventh Coast Guard District, Building 50-2, Coast Guard Island, Alameda, CA 94501-5100, between 8 a.m. and 4 p.m., Monday through Friday, except Federal holidays.

FOR FURTHER INFORMATION CONTACT: David H. Sulouff, Chief, Bridge Section, Eleventh Coast Guard District, telephone (510) 437-3516. If you have questions on viewing the docket, call Renee Wright, Program Manager, Docket Operations, telephone (202) 366-9826.

SUPPLEMENTARY INFORMATION: The County of Alameda requested a temporary change to the operation of the Park Street drawbridge across the Oakland Inner Harbor, mile 5.2, at Alameda, CA. The Park Street drawbridge navigation span provides a horizontal clearance of 241 feet between pier fenders. During single leaf operation, horizontal clearance is reduced to approximately 100 feet. The drawbridge provides a vertical clearance of 15 feet above Mean High Water in the closed-to-navigation position and unlimited vertical clearance in the open-to-navigation position. As required by 33 CFR 117.181, the draw shall open on signal; except that, from 8 a.m. to 9 a.m. and 4:30 p.m. to 6:30 p.m. Monday through Friday except Federal holidays, the draw need not be opened for the passage of vessels. However, the draw shall open during the above closed periods for vessels which must, for reasons of safety, move on a tide or slack water, if at least two hours notice is given. The waterway is navigated by commercial, recreational, emergency and law enforcement vessels.

Between the hours of 7 a.m. and 9 p.m. Monday through Thursday, and between the hours of 7 a.m. and 3:30 p.m. on Friday, the drawspan will be operated, one leaf at a time, while the opposite leaf, counterweight and hinges are seismically retrofitted. The drawbridge will be operated in the normal double leaf operation mode at night and on weekends, when work is not actually being performed on the bridge. The starting and ending dates for the project are from 12:01 a.m. on February 1, 2009 until 11:59 p.m. on May 31, 2009. This temporary deviation has been coordinated with the waterway users. The largest tug and barge combination on the waterway will be able to continue navigating safely through the bridge. Recreational and other waterway traffic will not be negatively impacted by the project.

Vessels that can transit the bridge, while in the closed-to-navigation position, may continue to do so at any time.

In accordance with 33 CFR 117.35(e), the drawbridge must return to its regular operating schedule immediately at the end of the designated time period. This deviation from the operating regulations is authorized under 33 CFR 117.35.

Dated: January 30, 2009.
P.F. Zukunft,
Rear Admiral, U.S. Coast Guard, Commander, Eleventh Coast Guard District.

[FR Doc. E9-4811 Filed 3-5-09; 8:45 am]

BILLING CODE 4910-15-P